DEPARTMENT OF COMMERCE

National Oceanic and Atmospheric Administration

50 CFR Part 660

[Docket No. 220524-0122]

RIN 0648-BL21

Magnuson-Stevens Act Provisions; Fisheries Off West Coast States; Pacific Coast Groundfish Fishery; 2022 Harvest Specifications for Pacific Whiting, and 2022 Pacific Whiting Tribal Allocation

AGENCY: National Marine Fisheries Service (NMFS), National Oceanic and Atmospheric Administration (NOAA), Commerce.

ACTION: Final rule.

SUMMARY: NMFS issues this final rule to implement the 2022 Pacific whiting fishery under the authority of the Pacific Coast Groundfish Fishery Management Plan, the Magnuson-Stevens Fishery Conservation and Management Act, the Pacific Whiting Act of 2006 (Whiting Act), and other applicable laws. This rule implements the domestic 2022 harvest specifications for Pacific whiting including the 2022 tribal allocation for the Pacific whiting fishery, the non-tribal sector allocations, and set-asides for incidental mortality in research activities and non-groundfish fisheries. These measures are intended to help prevent overfishing, achieve optimum yield, ensure that management measures are based on the best scientific information available, and provide for the implementation of tribal treaty fishing rights.

DATES: Effective June 2, 2022.

ADDRESSES:

Electronic Access

This final rule is accessible via the internet at the Office of the Federal Register website at https://www.federalregister.gov. Background information and documents are available at the NMFS website at https://www.fisheries.noaa.gov and at the Pacific Fishery Management Council's website at http://www.pcouncil.org/.

FOR FURTHER INFORMATION CONTACT: Colin Sayre, phone: 206-526-4656, and email: Colin.Sayre@noaa.gov.

SUPPLEMENTARY INFORMATION:

Background

The transboundary stock of Pacific whiting is managed through the Agreement Between the Government of the United States of America and the Government of Canada on Pacific Hake/Whiting of 2003 (Agreement). The Agreement establishes bilateral management bodies to implement the terms of the Agreement, including the Joint Management Committee (JMC), which recommends the annual catch level for Pacific whiting. NMFS issued a proposed rule on April 13, 2022 (87 FR 21858) that describes the Agreement, including the establishment of F-40 percent default harvest rate, the explicit allocation of Pacific whiting coastwide total allowable catch (TAC) to the United States (73.88 percent) and Canada (26.12 percent), the bilateral bodies to implement the terms of the Agreement, including the Joint Management Committee (JMC), and the process used to determine the coastwide TAC under the Agreement. The proposed rule also proposed allocating 17.5 percent of the U.S. TAC of Pacific whiting for 2021 to Pacific Coast Indian tribes that have a treaty right to harvest groundfish, and implementing set-asides (750 metric tons (mt)) for Pacific whiting for research and incidental mortality in other fisheries.

2022 TAC Recommendation

The Treaty's Advisory Panel (AP) and JMC met virtually March 1-3, 2022, to develop advice on a 2022 coastwide TAC. The AP provided its 2022 TAC recommendation to the JMC on March 2, 2022.

The Agreement directs the JMC to base the catch limit recommendation on the default harvest rate unless scientific evidence demonstrates that a different rate is necessary to sustain the offshore Pacific whiting resource. After consideration of the 2022 stock assessment and other relevant scientific information, the JMC did not use the default harvest rate, and instead agreed on a more conservative approach. There were two primary reasons for choosing a TAC well below the level of F-40 percent. First, the JMC noted the increasing age of the 2010, 2014, and 2016 year classes and wished to extend access to these stocks as long as possible, which a lower TAC could accomplish. Second, there is uncertainty regarding the size of the 2020 year class. Maintaining a modest TAC for 2022 was deemed prudent by the JMC until an additional year of data is available on the size of the 2020 year class. This conservative TAC setting process, endorsed by the AP, resulted in a TAC that is less than what it would be using the default harvest rate under the Agreement.

The JMC agreed on a recommended coastwide TAC of 545,000 mt, of Pacific whiting, which resulted in a U.S. TAC of 402,646 mt (73.88 percent of 545,000 mt). This recommendation is consistent with the best available scientific information, provisions of the Agreement, and the Whiting Act. The recommendation was transmitted via letter to the United States and Canadian Governments on March 3, 2022. NMFS, under delegation of authority from the Secretary of Commerce, approved the TAC recommendation of 402,646 mt for U.S. fisheries on March 25, 2022.

This final rule announces the U.S. TAC of 402,646 mt, and implements the domestic 2022 Pacific whiting harvest specifications, including, the 2022 tribal allocation of 70,463 mt, the preliminary allocations for three non-tribal commercial whiting sectors, and set-asides for incidental mortality in research activities and non-groundfish fisheries. The tribal and non-tribal allocations for Pacific whiting, as well as set-asides, are effective until December 31, 2022.

Tribal Allocations

This final rule establishes the tribal allocation of Pacific whiting for 2022 as described in the proposed rule (87 FR 21858). Since 1996, NMFS has been allocating a portion of the U.S. TAC of Pacific whiting to the tribal fishery. Regulations for the Pacific Coast Groundfish Fishery Management Plan (FMP) specify that the tribal allocation is subtracted from the total U.S. Pacific whiting TAC. The tribal Pacific whiting fishery is managed separately from the non-tribal Pacific whiting fishery and is not governed by limited entry or open access regulations or allocations. NMFS is establishing the 2022 tribal allocation as 70,463 mt (17.5 percent of the U.S. TAC) in this final rule.

In 2009, NMFS, the states of Washington and Oregon, and the tribes with treaty rights to harvest Pacific whiting started a process to determine the long-term tribal allocation for Pacific whiting; however, no long-term allocation has been determined. While new scientific information or discussions with the relevant parties may impact that decision, the best available scientific information to date suggests that 70,463 mt is within the likely range of potential treaty right amounts. As with prior tribal Pacific whiting allocations, this final rule is not intended to establish precedent for future Pacific whiting seasons, or for the determination of the total amount of Pacific whiting to which the Tribes are entitled under their treaty right. Rather, this rule adopts an interim allocation. The long-term tribal treaty amount will be based on further development of scientific information and additional coordination and discussion with and among the coastal tribes and the states of Washington and Oregon.

Non-Tribal Research and Bycatch Set-Asides

The U.S. non-tribal whiting fishery is managed under the Council's Pacific Coast Groundfish FMP. Each year, the Council recommends a set-aside of Pacific whiting to accommodate incidental mortality of the fish in research activities and non-groundfish fisheries based on estimates of scientific research catch and estimated bycatch mortality in non-groundfish fisheries. At its November 2021 meeting, the Council recommended an incidental mortality set-aside of 750 mt for 2022. This set-aside is unchanged from the 750 mt set-aside amount for incidental mortality in 2021 and reflects the recent average mortality that has declined from 942 mt in 2014-2016 to 216 mt in 2017-2019. This rule implements the Council's recommendations.

Non-Tribal Harvest Guidelines and Allocations

This final rule implements the fishery harvest guideline (HG), also called the non-tribal allocation as described in the proposed rule published on April 13, 2022 (87 FR 21858). The 2022 fishery HG for Pacific whiting is 331,433 mt. This amount was determined by deducting the 70,463 mt tribal allocation and the 750 mt allocation for scientific research catch and fishing mortality in non-groundfish fisheries from the U.S. TAC of 402,646 mt. The regulations further allocate the fishery HG among the three non-tribal sectors of the Pacific whiting fishery: The catcher/processor (C/P) Co-op Program, the Mothership (MS) Co-op Program, and the Shorebased Individual Fishing Quota (IFQ) Program. The C/P Co-op Program is allocated 34 percent (112,687 mt for 2022), the MS Co-op Program is allocated 24 percent (79,544 mt for 2022), and the Shorebased IFQ Program is allocated 42 percent (139,202 mt for 2022). The fishery south of 42° N lat. may not take more than 6,960 mt (5 percent of the Shorebased IFQ Program allocation) prior to May 15, the start of the primary Pacific whiting season north of 42° N lat.

Table 1—2022 U.S. Pacific Whiting Allocations in Metric Tons
Sector | 2022 Pacific whiting allocation (mt)
Tribal | 70,463
Catcher/Processor (C/P) Co-op Program | 112,687
Mothership (MS) Co-op Program | 79,544
Shorebased IFQ Program | 139,202

This rule would be implemented under the statutory and regulatory authority of section 305(d) of the Magnuson-Stevens Act, the Pacific Whiting Act of 2006, the regulations governing the groundfish fishery at 50 CFR 660.5—660.360, and other applicable laws. Additionally, with this final rule, NMFS, will ensure that the fishery is managed in a manner consistent with treaty rights of four Treaty Tribes to fish in their “usual and accustomed grounds and stations” in common with non-tribal citizens. United States v. Washington, 384 F. Supp. 313 (W.D. 1974).

Comments and Responses

NMFS issued a proposed rule on April 13, 2022 (87 FR 21858). The comment period on the proposed rule closed April 28, 2022. No comments were received during the public comment period.

Changes From the Proposed Rule

NMFS has not made any changes to the proposed regulatory text and there are no substantive changes from the proposed rule.

Classification

The Administrator, West Coast Region, NMFS, determined that the final rule is necessary for the conservation and management of the Pacific whiting and that it is consistent with section 305(d), and other provisions of the Magnuson-Stevens Fishery Conservation and Management Act, the Pacific Coast Groundfish FMP, and other applicable laws.

Pursuant to 5 U.S.C. 553(d)(3), the NMFS Assistant Administrator finds good cause to waive the 30-day delay in the date of effectiveness for this final rule because such a delay would be contrary to the public interest. If this final rule were delayed by 30 days, Pacific coast whiting fishermen would not be able to fish under the final catch limits for Pacific whiting for that time period, and not be able to realize the full level of economic opportunity this rule provides. Waiving the 30-day delay in the date of effectiveness will allow this final rule to more fully benefit the fishery through increased fishing opportunities as described in the preamble of this rule.

In addition, because this rule increases catch limits for Pacific whiting compared to the interim allocation the fishery is currently operating under, it therefore also falls within the 5 U.S.C. 553(d)(1) exception to the 30-day delay in the date of effectiveness requirement. The Pacific whiting fishery season began fishing on May 15, 2022 under interim allocations based on the lowest coastwide TAC considered in the proposed rule. This final rule implements a higher TAC for Pacific whiting than the interim allocation provided prior to the season opening, and implementing the rule upon publication provides the whiting fleet more opportunity and greater flexibility to harvest the optimal yield.

Waiving the 30-day delay in effectiveness will not have a negative impact on any entities, as there are no new compliance requirements or other burdens placed on the fishing community with this rule. Making this rule effective immediately would also serve the best interests of the public because it will allow for the longest possible fishing season for Pacific whiting and therefore the best possible economic outcome for those whose livelihoods depend on this fishery. Because the 30-day delay in effectiveness would potentially cause significant financial harm without providing any corresponding benefits, this final rule is effective upon publication in the Federal Register.

The Office of Management and Budget has determined that this final rule is not significant for purposes of Executive Order 12866.

A range of potential harvest levels for Pacific whiting have been considered under the Final Environmental Impact Statement for Harvest Specifications and Management Measures for 2015-2016 and Biennial Periods thereafter (2015/16 FEIS). The 2015/16 FEIS examined the harvest specifications and management measures for 2015-16 and 10 year projections for routinely adjusted harvest specifications and management measures. The 10 year projections were produced to evaluate the impacts of the ongoing implementation of harvest specifications and management measures and to evaluate the impacts of the routine adjustments that are the main component of each biennial cycle. The Environmental Assessment for Amendment 29 to the Pacific Coast Groundfish Fishery Management Plan and 2021-22 Harvest Specifications and Management Measures (2021-22 EA) for the 2021-22 cycle tiers from the 2015/16 FEIS and focuses on the harvest specifications and management measures for Pacific coast groundfish stocks that were not within the scope of the 10 year projections in the 2015/16 FEIS. The 2015/16 FEIS and 2021-22 EA are available from NMFS (see ADDRESSES).

Final Regulatory Flexibility Analysis

NMFS issued a proposed rule on April 13, 2022 (87 FR 21858), for the 2022 Harvest Specifications for Pacific Whiting, and 2022 tribal allocation for Pacific whiting. An Initial Regulatory Flexibility Analysis (IRFA) was prepared and summarized in the Classification section of the preamble to the proposed rule. The comment period on the revised proposed rule ended on April 28, 2022. NMFS did not receive any public comments on the revised proposed rule. The Chief Counsel for Advocacy of the Small Business Administration (SBA) did not file any comments on the IRFA or the proposed rule. The description of this action, its purpose, and its legal basis are described in the preamble to the proposed rule and are not repeated here. A Final Regulatory Flexibility Analysis (FRFA) was prepared and incorporates the IRFA. There were no public comments received on the IRFA. NMFS also prepared a RIR for this action. A copy of the RIR/FRFA is available from NMFS (see ADDRESSES). A summary of the FRFA, per the requirements of 5 U.S.C. 604 follows.

Under the Regulatory Flexibility Act (RFA), the term “small entities” includes small businesses, small organizations, and small governmental jurisdictions. The Small Business Administration has established size criteria for entities involved in the fishing industry that qualify as small businesses. A business involved in fish harvesting is a small business if it is independently owned and operated and not dominant in its field of operation (including its affiliates) and if it has combined annual receipts, not in excess of $11 million for all its affiliated operations worldwide (see 80 FR 81194, December 29, 2015). A wholesale business servicing the fishing industry is a small business if it employs 100 or fewer persons on a full time, part time, temporary, or other basis, at all its affiliated operations worldwide. A small organization is any nonprofit enterprise that is independently owned and operated and is not dominant in its field. Effective February 26, 2016, a seafood processor is a small business if it is independently owned and operated, not dominant in its field of operation, and employs 750 or fewer persons on a full time, part time, temporary, or other basis, at all its affiliated operations worldwide (See NAICS 311710 at 81 FR 4469; January 26, 2016). For purposes of rulemaking, NMFS is also applying the seafood processor standard to catcher processors because whiting C/Ps earn the majority of the revenue from processed seafood product.

A Summary of the Significant Issues Raised by the Public in Response to the IRFA, a Summary of the Agency's Assessment of Such Issues, and a Statement of Any Changes Made in the Final Rule as a Result of Such Comments

No public comments were received on the proposed rule.

Description and Estimate of the Number of Small Entities to Which the Rule Applies, and Estimate of Economic Impacts by Entity Size and Industry

This final rule announces the coastwide TAC and U.S. TAC and allocates Pacific whiting to the following sectors/programs: Tribal, Shorebased IFQ Program Trawl Fishery, MS Coop Program Whiting At-sea Trawl Fishery, and C/P Coop Program Whiting At-sea Trawl Fishery. The amount of Pacific whiting allocated to these sectors is based on the U.S. TAC.

We expect one tribal entity to fish for Pacific whiting in 2022. Tribes are not considered small entities for the purposes of RFA. Impacts to tribes are nevertheless considered in this analysis.

As of January 2022, the Shorebased IFQ Program is composed of 164 Quota Share permits/accounts (134 of which were allocated whiting quota pounds), and 35 first receivers, one of which is designated as whiting-only receivers and 11 that may receive both whiting and non-whiting.

These regulations also directly affect participants in the MS Co-op Program, a general term to describe the limited access program that applies to eligible harvesters and processors in the MS sector of the Pacific whiting at-sea trawl fishery. This program consists of six MS processor permits, and a catcher vessel fleet currently composed of a single co-op, with 34 Mothership/Catcher Vessel (MS/CV) endorsed permits (with three permits each having two catch history assignments).

These regulations also directly affect the C/P Co-op Program, composed of 10 C/P endorsed permits owned by three companies that have formed a single coop. These co-ops are considered large entities from several perspectives; they have participants that are large entities, and have in total more than 750 employees worldwide including affiliates.

Although there are three non-tribal sectors, many companies participate in two sectors and some participate in all three sectors. As part of the permit application processes for the non-tribal fisheries, based on a review of the Small Business Administration size criteria, permit applicants are asked if they considered themselves a “small” business, and they are asked to provide detailed ownership information. Data on employment worldwide, including affiliates, are not available for these companies, which generally operate in Alaska as well as the West Coast and may have operations in other countries as well. NMFS has limited entry permit holders self-report size status. For 2021, all 10 C/P permits reported they are not small businesses, as did 8 mothership catcher vessels. There is substantial, but not complete overlap between permit ownership and vessel ownership so there may be a small number of additional small entity vessel owners who will be impacted by this rule. After accounting for cross participation, multiple Quota Share account holders, and affiliation through ownership, NMFS estimates that there are 103 non-tribal entities directly affected by these proposed regulations, 89 of which are considered “small” businesses.

This rule will allocate Pacific whiting between tribal and non-tribal harvesters (a mixture of small and large businesses). Tribal fisheries consist of a mixture of fishing activities that are similar to the activities that non-tribal fisheries undertake. Tribal harvests may be delivered to both shoreside plants and motherships for processing. These processing facilities also process fish harvested by non-tribal fisheries. The effect of the tribal allocation on non-tribal fisheries will depend on the level of tribal harvests relative to their allocation and the reapportionment process. If the tribes do not harvest their entire allocation, there are opportunities during the year to reapportion unharvested tribal amounts to the non-tribal fleets. For example, in 2021 NMFS reapportioned 34,645 mt of the original 64,645 mt tribal allocation. This reapportionment was based on conversations with the tribes and the best information available at the time, which indicated that this amount would not limit tribal harvest opportunities for the remainder of the year. The reapportioning process allows unharvested tribal allocations of Pacific whiting to be fished by the non-tribal fleets, benefitting both large and small entities. The revised Pacific whiting allocations for 2021 following the reapportionment were: Tribal 30,000 mt, C/P Co-op 115,141 mt; MS Co-op 81,275 mt; and Shorebased IFQ Program 142,232 mt.

The prices for Pacific whiting are largely determined by the world market because most of the Pacific whiting harvested in the United States is exported. The U.S. Pacific whiting TAC is highly variable, as have subsequent harvests and ex-vessel revenues. For the years 2016 to 2020, the total Pacific whiting fishery (tribal and non-tribal) averaged harvests of approximately 303,782 mt annually. The 2021 U.S. non-tribal fishery had a Pacific whiting catch of approximately 268,926 mt, and the tribal fishery landed less than 3,000 mt.

Impacts to the U.S. non-tribal fishery are measured with an estimate of ex-vessel revenue. The coastwide TAC of 545,000 mt would result in an U.S. TAC of 402,646 mt and, after deduction of the tribal allocation and the incidental catch set-aside, a U.S. non-tribal harvest guideline of 331,433 mt. Using the 2021 weighted-average non-tribal price per metric ton (e.g. $221 per metric ton), the TAC is estimated to result in an ex-vessel revenue of $73.3 million for the U.S. non-tribal fishing fleet.

Impacts to tribal catcher vessels who elect to participate in the tribal fishery are measured with an estimate of ex-vessel revenue. In lieu of more complete information on tribal deliveries, total ex-vessel revenue is estimated with the 2021 average ex-vessel price of Pacific whiting, which was $221.15 per mt. At that price, the proposed 2022 tribal allocation of 70,463 mt would have an ex-vessel value of $15.58 million.

A Description of Any Significant Alternatives to the Proposed Rule That Accomplish the Stated Objectives of Applicable Statutes and That Minimize any Significant Economic Impact of the Proposed Rule on Small Entities

For the allocations to the non-tribal commercial sectors the Pacific whiting tribal allocation, and set-asides for research and incidental mortality NMFS considered two alternatives: “No Action” and the “Proposed Action.”

Under the no action alternative, NMFS would not implement allocations to the non-tribal sectors based on the JMC recommended U.S. TAC, which would not fulfill NMFS' responsibility to manage the U.S. fishery. This is contrary to the Whiting Act and Agreement, which requires sustainable management of the Pacific whiting resource, therefore this alternative received no further consideration.

Under the no action alternative, NMFS would not implement the set-aside amount of 750 mt recommended by the Council. Not implementing set-asides of the US whiting TAC would mean incidental mortality of the fish in research activities and non-groundfish fisheries would not be accommodated. This would be inconsistent with the Council's recommendation, the Pacific Groundfish Fishery Management Plan, the regulations setting the framework governing the groundfish fishery, and NMFS' responsibility to manage the fishery. Therefore the no action alternative received no further consideration.

NMFS did not consider a broader range of alternatives to the proposed tribal allocation because the tribal allocation is a percentage of the U.S. TAC and is based primarily on the requests of the tribes. These requests reflect the level of participation in the fishery that will allow them to exercise their treaty right to fish for Pacific whiting. Under the Proposed Action alternative, NMFS proposes to set the tribal allocation percentage at 17.5 percent, as requested by the Tribes. This would yield a tribal allocation of 70,463 mt for 2022. Consideration of a percentage lower than the tribal request of 17.5 percent is not appropriate in this instance. As a matter of policy, NMFS has historically supported the harvest levels requested by the Tribes. Based on the information available to NMFS, the tribal request is within their tribal treaty rights. A higher percentage would arguably also be within the scope of the treaty right. However, a higher percentage would unnecessarily limit the non-tribal fishery.

Under the no action alternative, NMFS would not make an allocation to the tribal sector. This alternative was considered, but the regulatory framework provides for a tribal allocation on an annual basis only. Therefore, the no action alternative would result in no allocation of Pacific whiting to the tribal sector in 2022, which would be inconsistent with NMFS' responsibility to manage the fishery consistent with the Tribes' treaty rights. Given that there is a tribal request for allocation in 2022, this alternative received no further consideration.

Regulatory Flexibility Act Determination of No Significant Impact

NMFS determined this proposed rule would not adversely affect small entities. The reapportioning process allows unharvested tribal allocations of Pacific whiting, fished by small entities, to be fished by the non-tribal fleets, benefitting both large and small entities.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. A small entity compliance guide will be sent to stakeholders, and copies of the final rule and guides (i.e., information bulletins) are available from NMFS at the following website: https://www.fisheries.noaa.gov/species/pacific-whiting#management.

With this final rule, NMFS, acting on behalf of the Secretary, determined that the FMP is implemented in a manner consistent with treaty rights of four Treaty Tribes to fish in their “usual and accustomed grounds and stations” in common with non-tribal citizens. United States v. Washington, 384 F. Supp. 313 (W.D. Wash. 1974).

This final rule contains no information collection requirements under the Paperwork Reduction Act of 1995.

List of Subjects in 50 CFR Part 660

Fisheries, Fishing, Indian Fisheries.

Dated: May 25, 2022.
Samuel D. Rauch, III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(4) to read as follows:

§ 660.50 Pacific Coast treaty Indian fisheries.

* * * * *

(f) * * *

(4) Pacific whiting. The tribal allocation for 2022 is 70,463 mt.

* * * * *

3. Revise Table 2a to part 660, subpart C, to read as follows:

Table 2a. to Part 660, Subpart C—2022, and Beyond, Specifications of OFL, ABC, ACL, ACT and Fishery Harvest Guidelines (Weights in Metric Tons)
[Capitalized stocks are overfished.]
Stocks | Area | OFL | ABC | ACL ᵃ | Fishery HG ᵇ
YELLOWEYE ROCKFISH ᶜ | Coastwide | 98 | 83 | 51 | 42.2
Arrowtooth Flounder ᵈ | Coastwide | 11,764 | 8,458 | 8,458 | 6,362.9
Big Skate ᵉ | Coastwide | 1,606 | 1,389 | 1,389 | 1,331.7
Black Rockfish ᶠ | California (S of 42° N lat.) | 373 | 341 | 341 | 338.7
Black Rockfish ᵍ | Washington (N of 46°16′ N lat.) | 319 | 291 | 291 | 272.9
Bocaccio ʰ | S of 40°10′ N lat. | 1,870 | 1,724 | 1,724 | 1,676.2
Cabezon ⁱ | California (S of 42° N lat) | 210 | 195 | 195 | 193.7
California Scorpionfish ʲ | S of 34°27′ N lat. | 303 | 275 | 275 | 271.1
Canary Rockfish ᵏ | Coastwide | 1,432 | 1,307 | 1,307 | 1,237.6
Chilipepper ˡ | S of 40°10′ N lat. | 2,474 | 2,259 | 2,259 | 2,161.3
Cowcod ᵐ | S of 40°10′ N lat. | 113 | 82 | 82 | 70.8
Cowcod | (Conception) | 94 | 70 | NA | NA
Cowcod | (Monterey) | 19 | 12 | NA | NA
Darkblotched Rockfish ⁿ | Coastwide | 901 | 831 | 831 | 811.9
Dover Sole ᵒ | Coastwide | 87,540 | 78,436 | 50,000 | 48,402.8
English Sole ᵖ | Coastwide | 11,127 | 9,101 | 9,101 | 8,850.4
Lingcod q | N of 40º10′ N lat. | 5,395 | 4,974 | 4,958 | 4,679.6
Lingcod ʳ | S of 40°10′ N lat. | 1,334 | 1,230 | 1,172 | 1,159
Longnose Skate ˢ | Coastwide | 2,036 | 1,761 | 1,761 | 1,509.6
Longspine Thornyhead ᵗ | N of 34°27′ N lat. | 4,838 | 3,227 | 2,452 | 2,398.3
Longspine Thornyhead ᵘ | S of 34°27′ N lat. |  |  | 774 | 771.8
Pacific Cod ᵛ | Coastwide | 3,200 | 1,926 | 1,600 | 1,093.9
Pacific Ocean Perch ʷ | N of 40°10′ N lat. | 4,371 | 3,711 | 3,711 | 3,686.3
Pacific Whiting ˣ | Coastwide | 715,643 | x | x | 331,433
Petrale Sole ʸ | Coastwide | 3,936 | 3,660 | 3,660 | 3,272.5
Sablefish ᶻ | N of 36° N lat. | 9,005 | 8,375 | 6,566 | See Table 1c
Sablefish ᵃᵃ | S of 36° N lat. |  |  | 1,809 | 1,781.6
Shortspine Thornyhead ᵇᵇ | N of 34°27′ N lat. | 3,194 | 2,130 | 1,393 | 1,314.6
Shortspine Thornyhead ᶜᶜ | S of 34°27′ N lat. |  |  | 737 | 730.3
Spiny Dogfish ᵈᵈ | Coastwide | 2,469 | 1,585 | 1,585 | 1,241.0
Splitnose ᵉᵉ | S of 40°10′ N lat. | 1,837 | 1,630 | 1,630 | 1,611.6
Starry Flounder ᶠᶠ | Coastwide | 652 | 392 | 392 | 343.6
Widow Rockfish ᵍᵍ | Coastwide | 14,826 | 13,788 | 13,788 | 13,539.7
Yellowtail Rockfish ʰʰ | N of 40°10′ N lat. | 6,324 | 5,831 | 5,831 | 4,793.5
Stock Complexes
Blue/Deacon/Black Rockfish ⁱⁱ | Oregon | 672 | 600 | 600 | 597.7
Cabezon/Kelp Greenling ʲʲ | Washington | 22 | 17 | 17 | 15
Cabezon/Kelp Greenling ᵏᵏ | Oregon | 208 | 190 | 190 | 189.8
Nearshore Rockfish North ˡˡ | N of 40°10′ N lat. | 93 | 77 | 77 | 73.9
Nearshore Rockfish South ᵐᵐ | S of 40°10′ N lat. | 1,233 | 1,011 | 1,010 | 1,005.6
Other Fish ⁿⁿ | Coastwide | 286 | 223 | 223 | 201.7
Other Flatfish ᵒᵒ | Coastwide | 7,808 | 4,838 | 4,838 | 4,617.1
Shelf Rockfish North ᵖᵖ | N of 40°10′ N lat. | 1,821 | 1,450 | 1,450 | 1,377.6
Shelf Rockfish South qq | S of 40°10′ N lat. | 1,832 | 1,429 | 1,428 | 1,295.2
Slope Rockfish North ʳʳ | N of 40°10′ N lat. | 1,842 | 1,568 | 1,568 | 1,502.1
Slope Rockfish South ˢˢ | S of 40°10′ N lat. | 871 | 705 | 705 | 666.1
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Yelloweye rockfish. The 51 mt ACL is based on the current rebuilding plan with a target year to rebuild of 2029 and an SPR harvest rate of 65 percent. 8.85 mt is deducted from the ACL to accommodate the Tribal fishery (5 mt), EFP catch (0.24 mt), research (2.92 mt), and the incidental open access fishery (0.69 mt) resulting in a fishery HG of 42.2 mt. The non-trawl HG is 38.8 mt. The combined non-nearshore/nearshore HG is 8.1 mt. Recreational HGs are: 9.9 mt (Washington); 9 mt (Oregon); and 11.7 mt (California). In addition, the nontrawl ACT is 30.4 mt and the combined non-nearshore/nearshore ACT is 6.3 mt. Recreational ACTs are: 7.8 mt (Washington), 7.1 (Oregon), and 9.2 mt (California).
ᵈ Arrowtooth flounder. 2,095.08 mt is deducted from the ACL to accommodate the Tribal fishery (2,041 mt), EFP fishing (0.1 mt), research (12.98 mt) and incidental open access (41 mt), resulting in a fishery HG of 6,362.9 mt.
ᵉ Big skate. 57.31 mt is deducted from the ACL to accommodate the Tribal fishery (15 mt), EFP fishing (0.1 mt), and research catch (5.49 mt), and incidental open access (36.72 mt), resulting in a fishery HG of 1,331.7 mt.
ᶠ Black rockfish (California). 2.26 mt is deducted from the ACL to accommodate EFP fishing (1.0 mt), research (0.08 mt), and incidental open access (1.18 mt), resulting in a fishery HG of 338.7 mt.
ᵍ Black rockfish (Washington). 18.1 mt is deducted from the ACL to accommodate the Tribal fishery (18 mt) and research catch (0.1 mt), resulting in a fishery HG of 272.9 mt.
ʰ Bocaccio south of 40°10″ N lat. The stock is managed with stock-specific harvest specifications south of 40°10″ N lat. and within the Minor Shelf Rockfish complex north of 40°10″ N lat. 47.82 mt is deducted from the ACL to accommodate EFP catch (40 mt), research (5.6 mt), and incidental open access (2.22 mt), resulting in a fishery HG of 1,676.2 mt. The 2022 combined allocation to the nearshore and non-nearshore fishery is 315.7 mt. The California recreational fishery south of 40°10″ N lat. has an HG of 706.1 mt.
ⁱ Cabezon (California). 1.28 mt is deducted from the ACL to accommodate EFP (1 mt), research (0.02 mt), and incidental open access fishery (0.26 mt), resulting in a fishery HG of 193.7 mt.
ʲ California scorpionfish south of 34°27″ N lat. 3.89 mt is deducted from the ACL to accommodate research (0.18 mt) and the incidental open access fishery (3.71 mt), resulting in a fishery HG of 271.1 mt.
ᵏ Canary rockfish. 69.39 mt is deducted from the ACL to accommodate the Tribal fishery (50 mt), EFP catch (8 mt), and research catch (10.08 mt), and the incidental open access fishery (1.31 mt), resulting in a fishery HG of 1,237.6 mt. The combined nearshore/non-nearshore HG is 123.5 mt. Recreational HGs are: 42.2 mt (Washington); 63.5 mt (Oregon); and 113.9 mt (California).
ˡ Chilipepper rockfish south of 40°10″ N lat. Chilipepper are managed with stock-specific harvest specifications south of 40°10′N lat. and within the Minor Shelf Rockfish complex north of 40°10″ N lat. 97.7 mt is deducted from the ACL to accommodate EFP fishing (70 mt), research (14.04 mt), the incidental open access fishery (13.66 mt), resulting in a fishery HG of 2,161.3 mt.
ᵐ Cowcod south of 40°10″ N lat. 11.17 mt is deducted from the ACL to accommodate EFP fishing (1 mt), research (10 mt), and incidental open access (0.17 mt), resulting in a fishery harvest guideline of 70.83 mt. A single ACT of 50 mt is being set for the Conception and Monterey areas combined.
ⁿ Darkblotched rockfish. 19.06 mt is deducted from the ACL to accommodate the Tribal fishery (0.2 mt), EFP catch (0.6 mt), and research catch (8.46 mt), and the incidental open access fishery (9.8 mt) resulting in a fishery HG of 811.9 mt.
ᵒ Dover sole. 1,597.21 mt is deducted from the ACL to accommodate the Tribal fishery (1,497 mt), EFP fishing (0.1 mt), research (50.84 mt), and incidental open access (49.27 mt), resulting in a fishery HG of 48,402.8 mt.
ᵖ English sole. 250.63 mt is deducted from the ACL to accommodate the Tribal fishery (200 mt), EFP fishing (0.1 mt), research (8 mt), and the incidental open access fishery (42.52 mt), resulting in a fishery HG of 8,850.4 mt.
q Lingcod north of 40°10″ N lat. 278.38 mt is deducted from the ACL for the Tribal fishery (250 mt), EFP catch (0.1 mt), research (16.6 mt), and the incidental open access fishery (11.68 mt) resulting in a fishery HG of 4,679.6 mt.
ʳ Lingcod south of 40°10″ N lat. 13 mt is deducted from the ACL to accommodate EFP catch (1.5 mt), research (3.19 mt), and incidental open access fishery (8.31 mt), resulting in a fishery HG of 1,159 mt.
ˢ Longnose skate. 251.40 mt is deducted from the ACL to accommodate the Tribal fishery (220 mt), EFP catch (0.1 mt), and research catch (12.46 mt), and incidental open access fishery (18.84 mt), resulting in a fishery HG of 1,509.6 mt.
ᵗ Longspine thornyhead north of 34°27′ N lat. 53.71 mt is deducted from the ACL to accommodate the Tribal fishery (30 mt), research catch (17.49 mt), and the incidental open access fishery (6.22 mt), resulting in a fishery HG of 2,398.3 mt.
ᵘ Longspine thornyhead south of 34°27′ N lat. 2.24 mt is deducted from the ACL to accommodate research catch (1.41 mt) and the incidental open access fishery (0.83 mt), resulting in a fishery HG of 771.8 mt.
ᵛ Pacific cod. 506.1 mt is deducted from the ACL to accommodate the Tribal fishery (500 mt), EFP fishing (0.1 mt), research catch (5.47 mt), and the incidental open access fishery (0.53 mt), resulting in a fishery HG of 1,093.9 mt.
ʷ Pacific ocean perch north of 40°10″ N lat. 24.73 mt is deducted from the ACL to accommodate the Tribal fishery (9.2 mt), EFP fishing (0.1 mt), research catch (5.39 mt), and the incidental open access fishery (10.04 mt), resulting in a fishery HG of 3,686.2 mt.
ˣ The 2022 OFL of 715,643 mt is based on the 2022 assessment with an F40 percent of FMSY proxy. The 2022 coastwide Total Allowable Catch (TAC) is 545,000 mt. The U.S. TAC is 73.88 percent of the coastwide TAC. The 2022 U.S. TAC is 402,646 mt. From the U.S. TAC, 70,463 mt is deducted to accommodate the Tribal fishery, and 750 mt is deducted to accommodate research and bycatch in other fisheries, resulting in a 2022 fishery HG of 331,433 mt. The TAC for Pacific whiting is established under the provisions of the Agreement with Canada on Pacific Hake/Whiting and the Pacific Whiting Act of 2006, 16 U.S.C. 7001-7010, and the international exception applies. Therefore, no ABC or ACL values are provided for Pacific whiting.
ʸ Petrale sole. 387.54 mt is deducted from the ACL to accommodate the Tribal fishery (350 mt), EFP catch (0.1 mt), research (24.14 mt), and the incidental open access fishery (13.3 mt), resulting in a fishery HG of 3,272.5 mt.
ᶻ Sablefish north of 36° N lat. This coastwide ACL value is not specified in regulations. The coastwide ACL value is apportioned north and south of 36° N lat., using a rolling 5-year average estimated swept area biomass from the NMFS NWFSC trawl survey, with 78.4 percent apportioned north of 36° N lat. and 21.5 percent apportioned south of 36° N lat. The northern ACL is 6,566 mt and is reduced by 656.6 mt for the Tribal allocation (10 percent of the ACL north of 36° N lat.). The 656.6 mt Tribal allocation is reduced by 1.7 percent to account for discard mortality. Detailed sablefish allocations are shown in Table 1c.
ᵃᵃ Sablefish south of 36° N lat. The ACL for the area south of 36° N lat. is 1,809 mt (21.6 percent of the calculated coastwide ACL value). 27.4 mt is deducted from the ACL to accommodate research (2.40 mt) and the incidental open access fishery (25 mt), resulting in a fishery HG of 1,781.6 mt.
ᵇᵇ Shortspine thornyhead north of 34°27′ N lat. 78.4 mt is deducted from the ACL to accommodate the Tribal fishery (50 mt), EFP catch (0.1 mt), and research catch (10.48 mt), and the incidental open access fishery (17.82 mt), resulting in a fishery HG of 1,314.6 mt for the area north of 34°27′ N lat.
ᶜᶜ Shortspine thornyhead south of 34°27′ N lat. 6.71 mt is deducted from the ACL to accommodate research catch (0.71 mt) and the incidental open access fishery (6 mt), resulting in a fishery HG of 730.3 mt for the area south of 34°27′ N lat.
ᵈᵈ Spiny dogfish. 344 mt is deducted from the ACL to accommodate the Tribal fishery (275 mt), EFP catch (1.1 mt), research (34.27 mt), and the incidental open access fishery (33.63 mt), resulting in a fishery HG of 1,241 mt.
ᵉᵉ Splitnose rockfish south of 40°10″ N lat. Splitnose rockfish in the north is managed in the Slope Rockfish complex and with stock-specific harvest specifications south of 40°10′ N lat. 18.42 mt is deducted from the ACL to accommodate EFP catch (1.5 mt), research (11.17 mt), and the incidental open access fishery (5.75 mt), resulting in a fishery HG of 1,611.6 mt.
ᶠᶠ Starry flounder. 48.38 mt is deducted from the ACL to accommodate the Tribal fishery (2 mt), EFP catch (0.1 mt), research (0.57 mt), and the incidental open access fishery (45.71 mt), resulting in a fishery HG of 343.6 mt.
ᵍᵍ Widow rockfish. 248.32 mt is deducted from the ACL to accommodate the Tribal fishery (200 mt), EFP catch (28 mt), research (17.27 mt), and the incidental open access fishery (3.05 mt), resulting in a fishery HG of 13,539.7 mt.
ʰʰ Yellowtail rockfish north of 40°10″ N lat. 1,037.55 mt is deducted from the ACL to accommodate the Tribal fishery (1,000 mt), EFP catch (10 mt), research (20.55 mt), and the incidental open access fishery (7 mt), resulting in a fishery HG of 4,793.5 mt.
ⁱⁱ Black rockfish/Blue rockfish/Deacon rockfish (Oregon). 2.32 mt is deducted from the ACL to accommodate the EFP catch (0.5 mt), research (0.08 mt), and the incidental open access fishery (1.74 mt), resulting in a fishery HG of 597.7 mt.
ʲʲ Cabezon/kelp greenling (Washington). 2 mt is deducted from the ACL to accommodate the Tribal fishery, therefore the fishery HG is 15 mt.
ᵏᵏ Cabezon/kelp greenling (Oregon). 0.21 mt is deducted from the ACL to accommodate EFP catch (0.1 mt), research (0.05 mt), and the incidental open access fishery (0.06 mt), resulting in a fishery HG of 189.8 mt.
ˡˡ Nearshore Rockfish north of 40°10″ N lat. 3.08 mt is deducted from the ACL to accommodate the Tribal fishery (1.5 mt), EFP catch (0.5 mt), research (0.47 mt), and the incidental open access fishery (0.61 mt), resulting in a fishery HG of 73.9 mt. State-specific HGs are 17.7 mt (Washington), 22.2 mt (Oregon), and 37.4 mt (California).
ᵐᵐ Nearshore Rockfish south of 40°10″ N lat. 4.42 mt is deducted from the ACL to accommodate research catch (2.68 mt) and the incidental open access fishery (1.74 mt), resulting in a fishery HG of 1,005.6 mt.
ⁿⁿ Other Fish. The Other Fish complex is comprised of kelp greenling off California and leopard shark coastwide. 21.34 mt is deducted from the ACL to accommodate EFP catch (0.1 mt), research (6.29 mt), and the incidental open access fishery (14.95 mt), resulting in a fishery HG of 201.7 mt.
ᵒᵒ Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.89 mt is deducted from the ACL to accommodate the Tribal fishery (60 mt), EFP catch (0.1 mt), research (23.63 mt), and the incidental open access fishery (137.16 mt), resulting in a fishery HG of 4,617.1 mt.
ᵖᵖ Shelf Rockfish north of 40°10″ N lat. 72.44 mt is deducted from the ACL to accommodate the Tribal fishery (30 mt), EFP catch (1.5 mt), research (15.32 mt), and the incidental open access fishery (25.62 mt), resulting in a fishery HG of 1,377.6 mt.
qq Shelf Rockfish south of 40°10″ N lat. 132.77 mt is deducted from the ACL to accommodate EFP catch (50 mt), research catch (15.1 mt), and the incidental open access fishery (67.67 mt) resulting in a fishery HG of 1,295.2 mt.
ʳʳ Slope Rockfish north of 40°10″ N lat. 65.89 mt is deducted from the ACL to accommodate the Tribal fishery (36 mt), EFP catch (1.5 mt), and research (10.51 mt), and the incidental open access fishery (18.88 mt), resulting in a fishery HG of 1,502.1 mt.
ˢˢ Slope Rockfish south of 40°10″ N lat. 38.94 mt is deducted from the ACL to accommodate EFP catch (1 mt), and research (18.21 mt), and the incidental open access fishery (19.73 mt), resulting in a fishery HG of 666.1 mt. Blackgill rockfish has a stock-specific HG for the entire groundfish fishery south of 40°10″ N lat. set equal to the species' contribution to the 40-10-adjusted ACL. Harvest of blackgill rockfish in all groundfish fisheries south of 40°10″ N lat. counts against this HG of 174 mt.

* * * * *

4. Revise Table 2b to part 660, subpart C, to read as follows:

Table 2b. to Part 660, Subpart C—2022, and Beyond, Allocations by Species or Species Group
[Weight in Metric Tons]
Stocks/stock complexes | Area | Fishery HG or ACT ᵃ ᵇ | Trawl: % | Trawl: Mt | Non-trawl: % | Non-trawl: Mt
YELLOWEYE ROCKFISH ᵃ | Coastwide | 42.2 | 8 | 3.4 | 92 | 38.8
Arrowtooth flounder | Coastwide | 6,362.9 | 95 | 6,044.8 | 5 | 318.1
Big skate ᵃ | Coastwide | 1,331.7 | 95 | 1,265.1 | 5 | 66.6
Bocaccio ᵃ | S of 40°10′ N lat | 1,676.2 | 39.04 | 654.4 | 60.96 | 1,021.8
Canary rockfish ᵃ | Coastwide | 1,237.6 | 72.281 | 894.6 | 27.719 | 343.1
Chilipepper rockfish | S of 40°10′ N lat | 2,161.3 | 75 | 1,621 | 25 | 540.3
Cowcod ᵃ | S of 40°10′ N lat | 50 | 36 | 18 | 64 | 32
Darkblotched rockfish | Coastwide | 811.9 | 95 | 771.3 | 5 | 40.6
Dover sole | Coastwide | 4,8402.8 | 95 | 45,982.7 | 5 | 2,420.1
English sole | Coastwide | 8,850.4 | 95 | 8,407.8 | 5 | 442.5
Lingcod | N of 40′10° N lat | 4,679.6 | 45 | 2,105.8 | 55 | 2,573.8
Lingcod ᵃ | S of 40'10° N lat | 1,159 | 40 | 463.6 | 60 | 695.4
Longnose skate ᵃ | Coastwide | 1,509.6 | 90 | 1,358.6 | 10 | 151
Longspine thornyhead | N of 34°27′ N lat | 2,398.3 | 95 | 2,278.4 | 5 | 119.9
Pacific cod | Coastwide | 1,093.9 | 95 | 1,039.2 | 5 | 54.7
Pacific ocean perch | N of 40°10′ N lat | 3,686.3 | 95 | 3,502 | 5 | 184.3
Pacific whiting ᶜ | Coastwide | 331,443 | 100 | 331, 443 | 0 | 0
Petrale sole ᵃ | Coastwide | 3,272.5 |  | 3,242.5 |  | 30
Sablefish | N of 36° N lat | NA | See Table 1c
Sablefish | S of 36° N lat | 1,781.6 | 42 | 748.3 | 58 | 1,033.3
Shortspine thornyhead | N of 34°27′ N lat | 1,314.6 | 95 | 1,248.9 | 5 | 65.7
Shortspine thornyhead | S of 34°27′ N lat | 730.3 |  | 50 |  | 680.3
Splitnose rockfish | S of 40°10′ N lat | 1,611.6 | 95 | 1,531 | 5 | 80.6
Starry flounder | Coastwide | 343.6 | 50 | 171.8 | 50 | 171.8
Widow rockfish ᵃ | Coastwide | 13,539.7 |  | 13,139.7 |  | 400
Yellowtail rockfish | N of 40°10′ N lat | 4,783.5 | 88 | 4,209.5 | 12 | 574
Other Flatfish | Coastwide | 4,617.1 | 90 | 4,155.4 | 10 | 461.7
Shelf Rockfish ᵃ | N of 40° 10′ N lat | 1,377.6 | 60.2 | 829.3 | 39.8 | 548.3
Shelf Rockfish ᵃ | S of 40° 10′ N lat | 1,295.2 | 12.2 | 158 | 87.8 | 1,137.2
Slope Rockfish | N of 40° 10′ N lat | 1,502.1 | 81 | 1,216.7 | 19 | 285.4
Slope Rockfish ᵃ | S of 40° 10′ N lat | 666.1 |  | 523.9 |  | 142.2
ᵃ Allocations decided through the biennial specification process.
ᵇ The cowcod fishery harvest guideline is further reduced to an ACT of 50 mt.
ᶜ Consistent with regulations at § 660.55(i)(2), the commercial harvest guideline for Pacific whiting is allocated as follows: 34 percent for the C/P Coop Program; 24 percent for the MS Coop Program; and 42 percent for the Shorebased IFQ Program. No more than 5 percent of the Shorebased IFQ Program allocation may be taken and retained south of 42° N lat. before the start of the primary Pacific whiting season north of 42° N lat.

5. In § 660.140, revise paragraph (d)(1)(ii)(D) to read as follows:

§ 660.140 Shorebased IFQ Program.

* * * * *

(d) * * *

(1) * * *

(ii) * * *

(D) Shorebased trawl allocations. For the trawl fishery, NMFS will issue QP based on the following shorebased trawl allocations:

Table 1 to Paragraph (d)(1)(ii)(D)
IFQ species | Area | 2021 Shorebased trawl allocation (mt) | 2022 Shorebased trawl allocation (mt)
YELLOWEYE ROCKFISH | Coastwide | 3.3 | 3.4
Arrowtooth flounder | Coastwide | 7,376.02 | 5,974.77
Bocaccio | South of 40°10′ N lat | 663.75 | 654.38
Canary rockfish | Coastwide | 880.96 | 858.56
Chilipepper | South of 40°10′ N lat | 1,695.2 | 1,621
Cowcod | South of 40°10′ N lat | 18 | 18
Darkblotched rockfish | Coastwide | 743.39 | 694.94
Dover sole | Coastwide | 45,972.65 | 45,972.65
English sole | Coastwide | 8,478.2 | 8,407.9
Lingcod | North of 40°10′ N lat | 2,275.78 | 2,090.83
Lingcod | South of 40°10′ N lat | 435.6 | 463.6
Longspine thornyhead | North of 34°27′ N lat | 2,451.28 | 2,278.38
Pacific cod | Coastwide | 1,039.21 | 1,039.21
Pacific halibut (IBQ) | North of 40°10′ N lat | 69.6 | 69.6
Pacific ocean perch | North of 40°10′ N lat | 3,337.74 | 3,201.94
Pacific whiting | Coastwide | 127,682 | 139,202
Petrale sole | Coastwide | 3,692.9 | 3,237.5
Sablefish | North of 36° N lat | 3,139.59 | 2,985.42
Sablefish | South of 36° N lat | 786 | 748
Shortspine thornyhead | North of 34°27′ N lat | 1,212.12 | 1,178.87
Shortspine thornyhead | South of 34°27′ N lat | 50 | 50
Splitnose rockfish | South of 40°10′ N lat | 1,565.20 | 1,531.00
Starry flounder | Coastwide | 171.8 | 171.8
Widow rockfish | Coastwide | 13,600.68 | 12,663.68
Yellowtail rockfish | North of 40°10′ N lat | 4,091.13 | 3,898.4
Other Flatfish complex | Coastwide | 4,088.00 | 4,120.40
Shelf Rockfish complex | North of 40°10′ N lat | 831.07 | 794.56
Shelf Rockfish complex | South of 40°10′ N lat | 159.24 | 158.02
Slope Rockfish complex | North of 40°10′ N lat | 938.58 | 916.71
Slope Rockfish complex | South of 40°10′ N lat | 526.4 | 523.9

* * * * *

[FR Doc. 2022-11728 Filed 6-1-22; 8:45 am]

BILLING CODE 3510-22-P